DEPARTMENT OF AGRICULTURE

Forest Service

Final Record of Decision for the Rio Grande National Forest Land Management Plan

AGENCY: Forest Service, USDA.

ACTION: Notice of plan approval for the Rio Grande National Forest.

SUMMARY: Dan Dallas, the Forest Supervisor for the Rio Grande National Forest, Rocky Mountain Region, signed the Record of Decision (ROD) for the Rio Grande National Forest Land Management Plan (Forest Plan). The final ROD documents the rationale for approving the Forest Plan and is consistent with the reviewing officer's responses to objections and instructions.

DATES: The Forest Plan for the Rio Grande National Forest will become effective June 11, 2020. To view the final ROD, final environmental impact statement (FEIS), the Forest Plan, and other related documents, please visit the Rio Grande National Forest Plan Revision website at: https://www.fs.usda.gov/detail/riogrande/landmanagement/projects/?cid=stelprd3819044.

FOR FURTHER INFORMATION CONTACT: Information about the Forest Plan for the Rio Grande National Forest can be obtained from Judi Pérez, weekdays, 8:00 a.m. to 4:00 p.m. Mountain Time at the Rio Grande National Forest Supervisor's Office at 719-852-5941 or judi.perez@usda.gov. Written requests for information may be sent to Rio Grande National Forest, Attn: Plan Revision, 1803 W. Highway 160, Monte Vista, Colorado 81144.

Individuals who use telecommunication devices for the deaf (TDD) may call the Federal Information Relay Service (FIRS) at 1-800-877-8339 between 8 a.m. and 8 p.m., Eastern Time, Monday through Friday.

SUPPLEMENTARY INFORMATION: The Forest Plan describes the Rio Grande National Forest's distinctive roles and contributions within the broader landscape and details forestwide and management area desired conditions, objectives, standards, and guidelines. The Forest Plan identifies suitable uses of National Forest System lands and provides estimates of the planned timber sale quantity. The Forest Plan identifies priority watersheds for restoration and includes recommended wilderness areas and eligible wild and scenic rivers. The Forest Plan also provides for efficient and effective management of the Rio Grande National Forest with desired conditions for coordination, partnerships, and shared stewardship with State, local, and Tribal governments, other federal agencies, adjacent landowners, and stakeholders.

The Rio Grande National Forest initiated plan revision in December 2014 with stakeholder and topic-based meetings. The Forest Service invited States, local and Tribal governments, and other federal agencies from around the region to participate in the process to revise the Forest Plan. The Forest Service received around 465 letters of comment on the Forest Plan. Public meetings were held throughout the process in a variety of locations and venues.

The development of the Forest Plan was shaped by the best available science, current laws, and public input. The 60-day timeframe for the opportunity to object ended on October 1, 2019. The Forest Service received 14 eligible objections. The reviewing officer issued his written responses to the objection issues. The Deputy Regional Forester, Reviewing Official, provided the Forest Supervisor minor clarification instructions for most of the objection issues. The final ROD documents the rationale for approving the Forest Plan and is consistent with the reviewing officer's responses to objections and instructions.

Responsible Official

The responsible official for approving the Forest Plan is Dan Dallas, Forest Supervisor, Rio Grande National Forest, 1803 W. Highway 160, Monte Vista, CO 81144.

Allen Rowley,
Associate Deputy Chief, National Forest System.

[FR Doc. 2020-10085 Filed 5-11-20; 8:45 am]

BILLING CODE 3411-15-P